DEPARTMENT OF HOMELAND SECURITY

[Docket No. CISA-2021-0017]

Notice of Cybersecurity and Infrastructure Security Agency Cybersecurity Advisory Committee Meeting

AGENCY: Cybersecurity and Infrastructure Security Agency (CISA), Department of Homeland Security (DHS).

ACTION: Notice of Federal Advisory Committee Act (FACA) meeting; request for comments.

SUMMARY: CISA is publishing this notice to announce the following CISA Cybersecurity Advisory Committee meeting. This meeting will be partially closed to the public.

DATES:

Meeting Registration: Registration to attend the meeting is required and must be received no later than 5:00 p.m. Eastern Time (ET) on December 8, 2021. For more information on how to participate, please contact CISA_CybersecurityAdvisoryCommittee@cisa.dhs.gov.

Speaker Registration: Registration to speak during the meeting's public comment period must be received no later than 5:00 p.m. ET on December 8, 2021.

Written Comments: Written comments must be received no later than 5:00 p.m. ET on December 8, 2021.

Meeting Date: The CISA Cybersecurity Advisory Committee will meet on December 10, 2021, from 10:30 a.m. to 3:30 p.m. ET. The meeting may close early if the committee has completed its business.

ADDRESSES: The CISA Cybersecurity Advisory Committee's open session will be held in-person at 7525 Colshire Drive, McLean, VA 22102. Capacity and location are subject to change based on DHS protocol regarding COVID-19 pandemic restrictions at the time of the meeting. Due to pandemic restrictions, members of the public may participate via teleconference only. Requests to participate will be accepted and processed in the order in which they are received. For access to the conference call bridge, information on services for individuals with disabilities, or to request special assistance, please email CISA_CybersecurityAdvisoryCommittee@cisa.dhs.gov. by 5:00 p.m. ET on December 8, 2021.

Comments: Members of the public are invited to provide comments on issues that will be considered by the committee as outlined in the SUPPLEMENTARY INFORMATION section below. Associated materials that may be discussed during the meeting will be made available for review at https://www.cisa.gov/cisa-cybersecurity-advisory-committee on November 24, 2021. Comments should be submitted by 5:00 p.m. ET on December 10, 2021, and must be identified by Docket Number CISA-2021-0017. Comments may be submitted by one of the following methods:

• Federal eRulemaking Portal: www.regulations.gov. Please follow the instructions for submitting written comments.

• Email: CISA_CybersecurityAdvisoryCommittee@cisa.dhs.gov. Include the Docket Number CISA-2021-0017 in the subject line of the email.

Instructions: All submissions received must include the words “Department of Homeland Security” and the Docket Number for this action. Comments received will be posted without alteration to www.regulations.gov, including any personal information provided.

Docket: For access to the docket and comments received by the CISA Cybersecurity Advisory Committee, please go to www.regulations.gov and enter docket number CISA-2021-0017.

A public comment period is scheduled to be held during the meeting from 3:10 p.m. to 3:20 p.m. ET. Speakers who wish to participate in the public comment period must email CISA_CybersecurityAdvisoryCommittee@cisa.dhs.gov to register. Speakers should limit their comments to 3 minutes and will speak in order of registration. Please note that the public comment period may end before the time indicated, depending on the number of speakers who register to participate.

FOR FURTHER INFORMATION CONTACT: Megan Tsuyi, 202-594-7374, CISA_CybersecurityAdvisoryCommittee@cisa.dhs.gov.

SUPPLEMENTARY INFORMATION: The CISA Cybersecurity Advisory Committee was established under the National Defense Authorization Act for Fiscal Year 2021 (Pub. L. 116-283). Notice of this meeting is given under FACA, 5 U.S.C. appendix (Pub. L. 92-463). The CISA Cybersecurity Advisory Committee advises the CISA Director on matters related to the development, refinement, and implementation of policies, programs, planning, and training pertaining to the cybersecurity mission of the Agency.

Agenda: The CISA Cybersecurity Advisory Committee will meet in an open session on Friday, December 10, 2021, from 1:00 p.m. to 3:30 p.m. ET to discuss CISA Cybersecurity Advisory Committee activities and the Government's ongoing cybersecurity initiatives. The open session will include: (1) A keynote address; (2) an overview of CISA; and (3) a discussion on CISA's big challenges, priorities, and potential study topics for the CISA Cybersecurity Advisory Committee.

The committee will also meet in a closed session from 10:30 a.m. to 12:00 p.m. ET during which time senior Government intelligence officials will provide a classified threat briefing concerning cybersecurity threats to the Government and critical infrastructure.

Basis for Closure: In accordance with section 10(d) of FACA and 5 U.S.C. 552b(c)(1), The Government in the Sunshine Act, it has been determined that one agenda item requires closure, as the disclosure of the information that will be discussed would not be in the public interest.

This agenda item includes a threat briefing, which will provide CISA Cybersecurity Advisory Committee members the opportunity to discuss information concerning cybersecurity threats with senior Government intelligence officials. The briefing is anticipated to be classified at the top secret/sensitive compartmented information level. Disclosure of the threats, vulnerabilities, and mitigation techniques discussed during the briefing would present a risk to the Nation's cybersecurity posture, as adversaries could use this information to compromise commercial and Government networks. The premature disclosure of this information to the public would provide adversaries who wish to intrude into commercial and government networks with information on potential vulnerabilities, current mitigation techniques, and existing cybersecurity defense tactics.

Therefore, this portion of the meeting is required to be closed pursuant to section 10(d) of FACA and 5 U.S.C. 552b(c)(l), (3).

Megan Tsuyi,
Designated Federal Officer, CISA Cybersecurity Advisory Committee, Cybersecurity and Infrastructure Security Agency, Department of Homeland Security.

[FR Doc. 2021-25744 Filed 11-24-21; 8:45 am]

BILLING CODE 9110-9P-P